DEPARTMENT OF HEALTH AND HUMAN SERVICES

National Institutes of Health

Office of the Director, National Institutes of Health; Amended Notice of Meeting

Notice is hereby given of a change in the meeting of the Advisory Committee to the Director, National Institutes of Health, June 13, 2013, 9:00 a.m. to June 14, 2013, 1:00 p.m., National Institutes of Health, Building 31, 6th Floor, Conference Room 6C6, 31 Center Drive, Bethesda, MD, 20892 which was published in the Federal Register on May 14, 2013, 78 FR 28235.

The meeting notice is being amended to announce the open sessions originally scheduled from 9:00 a.m. to 12:00 p.m. and 2:00 p.m. to 5:00 p.m. on June 13, 2013 have been changed to 9:00 a.m. to 3:15 p.m. on June 13, 2013. The closed session originally scheduled from 1:00 p.m. to 2:00 p.m. on June 13, 2013 has been changed to 3:30 p.m. until adjournment. There is no change to the open session times scheduled on June 14, 2013. There is no change in the meeting location. The meeting is partially closed to the public.

Dated: May 17, 2013.
Anna Snouffer,
Deputy Director, Office of Federal Advisory Committee Policy.

[FR Doc. 2013-12253 Filed 5-22-13; 8:45 am]

BILLING CODE 4140-01-P